DEPARTMENT OF HOUSING AND URBAN DEVELOPMENT

[Docket No. FR-5828-N-15]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; COE: Mr. Scott Whiteford, Army Corps of Engineers, Real Estate, CEMP-CR, 441 G Street NW., Washington, DC 20314; (202) 761-5542; Commandant, United States Coast Guard, Attn: Jennifer Stomber, 2703 Martin Luther King Jr. Ave. SE., Stop 7714, Washington, DC 20593-; (202) 475-5609; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; Navy: Mr. Steve Matteo, Department of the Navy, Asset Management Division, Naval Facilities Engineering Command, Washington Navy Yard, 1330 Patterson Ave. SW., Suite 1000, Washington, DC 20374; (202) 685-9426; (These are not toll-free numbers).

Dated: April 2, 2015.
Brian P. Fitzmaurice,
Director, Division of Community Assistance, Office of Special Needs Assistance Programs.

TITLE V, FEDERAL SURPLUS PROPERTY PROGRAM FEDERAL REGISTER REPORT FOR 04/10/2015

Suitable/Available Properties

Building

Idaho

Bathhouse Infra #1710

Bonners Ferry Ranger District Admin. Site

Bonner Ferry ID 83805

Landholding Agency: Agriculture

Property Number: 15201510022

Status: Excess

Comments: off-site removal; 50+yrs. old; 250 sq. ft.; storage; costly repairs; contact Agriculture for more info.

Kansas

Storage “Paint” Shed, Maintena

105 Riverside Drive

Marquette KS 67464

Landholding Agency: COE

Property Number: 31201510005

Status: Underutilized

Directions: 01016 KNOPLS 28127

Comments: off-site removal; 65+yrs. old; 144 sq. ft.; storage; poor condition; contact COE for more information.

Wisconsin

Clam Lake Oil House #372

61770 Highway 77

Clam Lake WI 54517

Landholding Agency: Agriculture

Property Number: 15201510027

Status: Excess

Comments: off-site removal only; 200 sq. ft.; gas/oil storage; poor condition; contact Agriculture for more information.

Clam Lake Bunkhouse #202

61766 Highway 77

Clam Lake WI 54806

Landholding Agency: Agriculture

Property Number: 15201510028

Status: Unutilized

Comments: off-site removal only; no future agency need; 1,704 sq. ft.; poor condition; contact Agriculture for more information.

Clam Lake Warehouse #364

61766 Highway 77

Clam Lake WI 54517

Landholding Agency: Agriculture

Property Number: 15201510029

Status: Unutilized

Comments: off-site removal only; no future agency need; 800 sq. ft.; storage; good condition; contact Agriculture for more information.

Clam Lake Garage #367

61766 Highway 77

Clam Lake WI 54806

Landholding Agency: Agriculture

Property Number: 15201510030

Status: Unutilized

Comments: off-site removal only; no future agency need; 480 sq. ft.; storage; poor condition; contact Agriculture for more information.

Land

Maine

Former Non Directional Beacon

“Waterville, Maine NDB”

3176 Middle Road

Sidney ME 04330

Landholding Agency: GSA

Property Number: 54201510012

Status: Excess

GSA Number: 1-U-ME-0696-AA

Directions: Disposal Agency: GSA; Landholding Agency: DOT

Comments: 0.69+/−acres, unimproved; Contact GSA for more information.

Unsuitable Properties

Building

California

8 Buildings

MCB Camp Pendleton

MCB Camp Pendleton CA 43297

Landholding Agency: Navy

Property Number: 77201510017

Status: Excess

Directions: Buildings 220122; 1145; 31620; 43296; 43297; 2265; 53430; 53427

Comments: public access denied & no alternative method to gain access w/out compromising National Security.

Reasons: Secured Area

Idaho

Bonners Cook Trailer

Infra. #1413

Bonners Ferry Ranger District Admin. Site

Bonners Ferry ID

Landholding Agency: Agriculture

Property Number: 15201510025

Status: Excess

Comments: documented deficiencies: roof collapsing; clear threat to personal safety.

Reasons: Extensive deterioration

Minnesota

Swede Hill Oil House 2-13004

7766 Chippewa National Forest

Cass Lake MN 56633

Landholding Agency: Agriculture

Property Number: 15201510023

Status: Unutilized

Comments: documented deficiencies: building suffered roof damage from a falling tree and power line; clear threat to personal safety.

Reasons: Extensive deterioration

Swede Hill Warehouse #2

2-13006

7766 Chippewa National Forest

Cass Lake MN

Landholding Agency: Agriculture

Property Number: 15201510024

Status: Unutilized

Comments: documented deficiencies: roof collapsing; clear threat to personal safety.

Reasons: Extensive deterioration

Missouri

Table Rock Lake Project

40263 State Hwy. 86

Barry County MO 62625

Landholding Agency: COE

Property Number: 31201510006

Status: Unutilized

Comments: public access denied & no alternative method to gain access without compromising National Security.

Reasons: Secured Area

New Mexico

2 Buildings

White Sands Test Facility

12600 Nasa Road

Las Cruces NM 88012

Landholding Agency: NASA

Property Number: 71201510021

Status: Unutilized

Directions: Building #114, 437

Comments: located on a hazardous test facility; public access denied & no alternative method to gain access without compromising National Security.

Reasons: Secured Area

Washington

B-6409 General Warehouse

6409 Trigger Avenue

Naval Base Kitsap Bre WA 98314

Landholding Agency: Navy

Property Number: 77201510018

Status: Unutilized

Comments: public access denied & no alternative method to gain access without compromising National Security.

Reasons: Secured Area

Wisconsin

South Butternut Lake Garage

#56835

10840 four Duck Lake Rd

Hiles WI 54511

Landholding Agency: Agriculture

Property Number: 15201510026

Status: Unutilized

Comments: documented deficiencies: roof collapsing; clear threat to personal safety.

Reasons: Extensive deterioration

[FR Doc. 2015-08065 Filed 4-9-15; 8:45 am]

BILLING CODE 4210-67-P